DEPARTMENT OF COMMERCE

Bureau of Industry and Security

Announcement of Performance Review Board Members

AGENCY: Bureau of Industry and Security, Department of Commerce.

ACTION: Notice of Performance Review Board Membership.

SUMMARY: 5 CFR 430.310 requires agencies to publish notice of Performance Review Board appointees in the Federal Register before their service begins. This notice announces the names of new and existing members of the Bureau of Industry and Security's Performance Review Board.

FOR FURTHER INFORMATION CONTACT: Gay Shrum, Director of Administration, Bureau of Industry and Security, at (202) 482-1058, Room 6622, Washington, DC 20230.

SUPPLEMENTARY INFORMATION: The purpose of the Performance Review Board is to review and make recommendations to the appointing authority on performance management issues such as appraisals, bonuses, pay level increases, and Presidential Rank Awards for members of the Senior Executive Service.

The Under Secretary for Industry and Security, Mario Mancuso, has named the following members of the Bureau of Industry and Security Performance Review Board:

1. Mark Foulon, Senior Advisor to the Under Secretary (new).

2. Matthew Borman, Deputy Under Secretary for Export Administration.

3. Dawn Leaf, Chief Information Officer.

4. Gay Shrum, Director of Administration.

5. John Phalen, Director, Office of Management and Organization, Department of Commerce (Outside Reviewer).

Dated: September 26, 2007.
Rita Clinton,
Acting Human Resources Officer.

[FR Doc. E7-19552 Filed 10-2-07; 8:45 am]

BILLING CODE 3510-33-P